DEPARTMENT OF TRANSPORTATION

Federal Aviation Administration

14 CFR Part 39

[Docket No. FAA-2006-26258; Directorate Identifier 2006-CE-67-AD; Amendment 39-14840; AD 2006-24-11]

RIN 2120-AA64

Airworthiness Directives; Raytheon Aircraft Company Models 1900, 1900C, and 1900D Airplanes

AGENCY: Federal Aviation Administration (FAA), DOT.

ACTION: Final rule; request for comments.

SUMMARY: The FAA is adopting a new airworthiness directive (AD) for certain Raytheon Aircraft Company (RAC) Models 1900, 1900C, and 1900D airplanes. This AD requires you to repetitively inspect the forward, vertical, and aft flanges of both the left and right wing rear spar lower caps for cracks, repair any cracks found, and report the inspection results to RAC. This AD results from additional fatigue cracks found in this area since inspections were performed to comply with Emergency AD 2006-18-51, which required immediate visual inspections of this area. We are issuing this AD for the purpose of performing a more rigorous inspection requiring cleaning and paint stripping of this section of the wing rear spar to detect and correct cracking in the wing spar lower caps of the affected airplanes before the cracks lead to failure. These wing rear spar cracks may result in wing failure which could result in the wing separating from the airplane with consequent loss of control.

DATES: This AD becomes effective on December 11, 2006.

As of December 11, 2006, the Director of the Federal Register approved the incorporation by reference of certain publications listed in the regulation.

We must receive any comments on this AD by February 2, 2007.

ADDRESSES: Use one of the following addresses to comment on this AD.

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

To get the service information identified in this AD, contact Raytheon Aircraft Company (RAC), Post Office Box 85, Wichita, Kansas 67201-0085, Phone 1-800-429-5372 or 1-316-676-2000, Fax: 1-316-676-8745.

To view the comments to this AD, go to http://dms.dot.gov. The docket number is FAA-2006-26258; Directorate Identifier 2006-CE-67-AD.

FOR FURTHER INFORMATION CONTACT: Steven E. Potter, FAA, 1801 Airport Road, Wichita, Kansas 67209; telephone: (316) 946-4124; fax: (316) 946-4107.

SUPPLEMENTARY INFORMATION:

Discussion

Due to significant cracks found in the wing rear spar of RAC Model 1900D airplanes, we issued Emergency AD 2006-18-51 on August 31, 2006. AD 2006-18-51 required an immediate visual inspection of both the left and right wing rear spars near the outboard edge of the engine nacelle. This AD was then published in the Federal Register as Amendment 39-14757 (71 FR 52983, September 8, 2006).

Additional fatigue cracks in the affected area of the wing rear spar have been found since the AD 2006-18-51 inspections were performed. One of the airplanes had accumulated 168 hours time-in-service (TIS) since the visual inspections required by AD 2006-18-51 were done.

The FAA has determined a more rigorous and detailed inspection is necessary to find such fatigue cracks.

Cracking in the wing rear spar lower caps and adjacent structure, if not corrected, could result in wing failure. Such a wing failure could result in the wing separating from the airplane with consequent loss of control.

Relevant Service Information

We reviewed Raytheon Aircraft Company Service Bulletin No. 57-3815, Issued: October, 2006. The service information describes procedures for the left and right rear wing spar lower cap inspection.

FAA's Determination and Requirements of This AD

We are issuing this AD because we have evaluated all known and available information and determined the unsafe condition described previously is likely to exist or develop on other products of the same type design. This AD requires a rigorous and detailed inspection of the wing rear spar lower caps to find the fatigue cracks. The preparation and procedural requirements for these inspections are included in RAC Mandatory Service Bulletin 57-3815.

RAC is developing a modification that, if approved by the FAA, would terminate the repetitive inspection requirement of this AD. The FAA may take future rulemaking action on this subject.

FAA's Determination of the Effective Date

Since an unsafe condition exists that requires the immediate adoption of this AD, we determined that notice and opportunity for public comment before issuing this AD are impracticable, and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2006-26258; Directorate Identifier 2006-CE-67-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2006-24-11 Raytheon Aircraft Company (RAC): Amendment 39-14840; Docket No. FAA-2006-26258; Directorate Identifier 2006-CE-67-AD.

Effective Date

(a) This AD becomes effective on December 11, 2006.

Affected ADs

(b) AD 2006-18-51, Amendment 39-14757 (71 FR 52983, September 8, 2006), relates to the subject of this AD. However, this AD does not supersede or revise that AD. Both ADs are necessary to address the unsafe condition.

Applicability

(c) This AD applies to the following airplane models and serial numbers that are certificated in any category:

Models | Serial numbers
(1) 1900 | UA-3.
(2) 1900C (C-12J) | UB-1 through UB-74, UC-1 through UC-174, and UD-1 through UD-6.
(3) 1900D | UE-1 through UE-439.

Unsafe Condition

(d) This AD is the result of additional fatigue cracks found in the wing rear spar lower caps on a Raytheon Model 1900 airplane shortly after complying with AD 2006-18-51. We are issuing this AD to require a more rigorous and detailed inspection to find the fatigue cracks which are the unsafe condition. Failure to detect cracking in the wing rear spar lower caps of the affected airplanes could result in a wing failure. Such a wing failure could result in the wing separating from the airplane with consequent loss of control.

Compliance

(e) To address this problem, you must do the following, unless already done:

Actions | Compliance | Procedures
(1) Repetitively inspect both the left and right wing rear spar lower caps for cracks and other damage such as loose or missing fasteners | Initially inspect within 100 hours time-in-service (TIS) or 30 days after December 11, 2006 (the effective date of this AD), whichever occurs first. Repetitively inspect thereafter at intervals not to exceed 200 hours TIS | Follow the procedures in Raytheon Mandatory Service Bulletin 57-3815, dated Issued: October, 2006.
(2) If cracks are found repair all cracks by obtaining and incorporating an FAA-approved repair scheme from RAC | Before further flight after any inspection required by paragraph (e)(1) of this AD where cracks are found | Contact RAC at Post Office Box 85, Wichita, Kansas 67201-0085; phone: 316-676-8366; fax: (316) 676-8745; e-mail: tom_peay@rac.ray.com.
(3) Report the inspection results to Raytheon Aircraft Company using the instructions and forms in the service bulletin. Complete all sections of the required forms. Reporting requirements have been approved by the Office of Management and Budget (OMB) and assigned OMB control number 2120-0056 | Report the initial inspection within 10 days after the inspection or 10 days after the effective date of this AD, whichever occurs later. Report the repetitive inspections within 30 days after the inspection | Follow the procedures in Raytheon Mandatory Service Bulletin 57-3815, dated Issued: October, 2006.

Alternative Methods of Compliance (AMOCs)

(f) The Manager, Wichita Aircraft Certification Office, FAA, ATTN: Steven E. Potter, FAA, 1801 Airport Road, Wichita, Kansas 67209; telephone: (316) 946-4124; fax: (316) 946-4107, has the authority to approve AMOCs for this AD, if requested using the procedures in 14 CFR 39.

Material Incorporated by Reference

(g) You must use Raytheon Mandatory Service Bulletin 57-3815, Issued: October, 2006, to do the actions required by this AD, unless the AD specifies otherwise.

(1) The Director of the Federal Register approved the incorporation by reference of this service information under 5 U.S.C. 552(a) and 1 CFR part 51.

(2) For service information identified in this AD, contact Raytheon Aircraft Company (RAC), Post Office Box 85, Wichita, Kansas 67201-0085, Phone 1-800-429-5372 or 1-316-676-2000, Fax: 1-316-676-8745.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on November 24, 2006.
Sandra J. Campbell,
Acting Manager, Small Airplane Directorate, Aircraft Certification Service.

[FR Doc. E6-20326 Filed 12-1-06; 8:45 am]

BILLING CODE 4910-13-P